DEPARTMENT OF DEFENSE

Office of the Secretary

National Security Education Board (NSEB); Notice of Federal Advisory Committee Meeting

AGENCY: Under Secretary of Defense for Personnel and Readiness (USD(P&R)), Department of Defense (DoD).

ACTION: Notice of Federal advisory committee meeting.

SUMMARY: The DoD is publishing this notice to announce that the following Federal advisory committee meeting of the NSEB will take place.

DATES: Open to the public on Wednesday, April 3, 2024 from 9 a.m. to 3 p.m. eastern standard time (EST).

ADDRESSES: The meeting will be held at 1350 Eye Street NW, Washington, DC 22205.

FOR FURTHER INFORMATION CONTACT: Ms. Alison Patz, (571) 329-3894 phone, or by email at (alison.m.patz.civ@mail.mil) for information about attending the meeting. National Security Education Program, 4800 Mark Center Drive, Suite 08G08, Alexandria, VA 22350-7000. Website: https://dlnseo.org/Governance/NSEB.

SUPPLEMENTARY INFORMATION: This meeting is being held under the provisions of chapter 10 of title 5, United States Code (U.S.C.) (commonly known as the “Federal Advisory Committee Act” or “FACA”), 5 U.S.C. 552b (commonly known as the “Government in the Sunshine Act”), and title 41 Code of Federal Regulations (CFR) section 102-3.140 and 102-3.150.

Due to circumstances beyond the control of the Designated Federal Officer (DFO) and the DoD, the NSEB was unable to provide public notification required by 41 CFR 102-3.150(a) concerning its April 3, 2024 meeting. Accordingly, the Advisory Committee Management Officer for the DoD, pursuant to 41 CFR 102-3.150(b), waives the 15-calendar day notification requirements.

Purpose of the Meeting: The purpose of the meeting is to review and make recommendations to the Secretary of Defense concerning requirements established by the David L. Boren National Security Education Act, title VII of Public Law 102-183, as amended.

Agenda: Wednesday, April 3, 2024 from 9 a.m. to 3 p.m. the NSEB will begin an open session with opening remarks by Dr. Clare Bugary, the DFO, and the Honorable Shawn Skelly, Assistant Secretary of Defense for Readiness, who will Chair the meeting. The NSEB will receive a briefing on the NSEB Statutory Responsibilities and Program Updates. The meeting will continue with a mission highlight from Project Global Officer, followed by working group discussion. The meeting's final session will be an overview of the Boren Awards Alumni Survey. General discussion and closing remarks by the Chair and the DFO will adjourn the meeting.

Meeting Accessibility: Pursuant to 5 U.S.C. 552b and 41 CFR 102-3.140 through 102-3.165, this meeting is open to the public, subject to the availability of space.

Special Accommodations: Individuals requiring special accommodations to access the public meeting should contact Ms. Alison Patz at alison.m.patz.civ@mail.mil (email) or (571) 329-3894 (voice) no later than Tuesday, March 26, 2023, so that appropriate arrangements can be made.

Written Statements: This meeting is being held under the provisions of the FACA of 1972 (5 U.S.C. Appendix, as amended), the Government in the Sunshine Act of 1976 (5 U.S.C. 552b, as amended), and 41 CFR 102-3.140 and 102-3.150. Pursuant to 41 CFR 102-3.140 and sections 10(a)(3) of the FACA, the public or interested organizations may submit written statements to the NSEB about its mission and functions. Written statements may be submitted at any time or in response to the stated agenda of the planned meeting. All written statements shall be submitted to the point of contact at the email address or phone number listed in the FOR FURTHER INFORMATION CONTACT section, and this individual will ensure that the written statements are provided to the membership for their consideration. Statements being submitted in response to the agenda items mentioned in this notice must be received by the point of contact listed in the FOR FURTHER INFORMATION CONTACT section at least five calendar days prior to the meeting that is the subject of this notice. Written statements received after this date may not be provided to or considered by the NSEB until its next meeting.

Dated: March 19, 2024.
Aaron T. Siegel,
Alternate OSD Federal Register Liaison Officer, Department of Defense.

[FR Doc. 2024-06369 Filed 3-25-24; 8:45 am]

BILLING CODE 6001-FR-P